DEPARTMENT OF ENERGY

Federal Energy Regulatory Commission

Combined Notice of Filings #2

December 4, 2007.

Take notice that the Commission received the following electric rate filings:

Docket Numbers: ER05-1232-006.

Applicants: JPMorgan Ventures Energy Corporation.

Description: JP Morgan Ventures Energy Corp submits a revised market based rate tariff designated as First Revised Rate Schedule 1 in Accordance with Order 697.

Filed Date: 11/30/2007.

Accession Number: 20071203-0192.

Comment Date: 5 p.m. Eastern Time on Friday, December 21, 2007.

Docket Numbers: ER05-283-001.

Applicants: JPMorgan Chase Bank, N.A.

Description: JPMorgan Chase Bank, NA submits a revised market-based rate tariff, designated as Second Revised Rate Schedule 1 in compliance with Order 697.

Filed Date: 11/30/2007.

Accession Number: 20071203-0200.

Comment Date: 5 p.m. Eastern Time on Friday, December 21, 2007.

Docket Numbers: ER07-1125-004.

Applicants: Niagara Mohawk Power Corporation.

Description: Niagara Mohawk Power Corporation dba National Grid submits Service Agreement 1154 and 1158 with updated effective dates.

Filed Date: 11/30/2007.

Accession Number: 20071203-0079.

Comment Date: 5 p.m. Eastern Time on Friday, December 21, 2007.

Docket Numbers: ER08-75-001.

Applicants: DEL LIGHT Inc.

Description: DEL LIGHT Inc requests its Petition for Acceptance of Initial Tariff, Waivers and Blanket Authority designated as FERC Electric Tariff, Original Volume 1.

Filed Date: 11/26/2007.

Accession Number: 20071130-0069.

Comment Date: 5 p.m. Eastern Time on Monday, December 17, 2007.

Docket Numbers: ER08-213-001.

Applicants: Round Rock Energy, LP.

Description: Round Rock Energy, LP submits a supplemental filing to Sheet 1, FERC Electric Tariff, Original Volume 1.

Filed Date: 11/30/2007.

Accession Number: 20071203-0193.

Comment Date: 5 p.m. Eastern Time on Friday, December 21, 2007.

Docket Numbers: ER08-268-000.

Applicants: MidAmerican Energy Company.

Description: MidAmerican Energy Co submits a Firm Transmission Service Agreement with the Municipal Energy Agency of Nebraska for Service to the City of Rockford, Iowa.

Filed Date: 11/30/2007.

Accession Number: 20071203-0198.

Comment Date: 5 p.m. Eastern Time on Friday, December 21, 2007.

Docket Numbers: ER08-269-000.

Applicants: Midwest Independent Transmission System.

Description: Michigan Electric Transmission Co, LLC et al submits a Second Amendment to the Second Amended and Restated Settlement Agreement etc.

Filed Date: 11/30/2007.

Accession Number: 20071203-0197.

Comment Date: 5 p.m. Eastern Time on Friday, December 21, 2007.

Docket Numbers: ER08-270-000.

Applicants: Westar Energy, Inc.

Description: Kansas Gas and Electric Co and Westar Energy, Inc submits Notice of Cancellation of an Agreement for Wholesale Electric Service with City of Mount Hope, Kansas.

Filed Date: 11/30/2007.

Accession Number: 20071203-0196.

Comment Date: 5 p.m. Eastern Time on Friday, December 21, 2007.

Docket Numbers: ER08-271-000.

Applicants: Consolidated Edison Co. of New York, Inc.

Description: Consolidated Edison Company of New York, Inc submits amendments to their Delivery Service Rate Schedule 96 and 92.

Filed Date: 11/30/2007.

Accession Number: 20071203-0195.

Comment Date: 5 p.m. Eastern Time on Friday, December 21, 2007.

Docket Numbers: ER08-272-000.

Applicants: Southern California Edison Company.

Description: Southern California Edison Co submits a Large Generator Interconnection Agreement and a Service Agreement for Wholesale Distribution Service for the McGrath Beach Peaker Project.

Filed Date: 11/30/2007.

Accession Number: 20071203-0194.

Comment Date: 5 p.m. Eastern Time on Friday, December 21, 2007.

Docket Numbers: ER08-273-000.

Applicants: Florida Power & Light Company.

Description: Florida Power & Light Company submits an executed Service Agreement 262 with Georgia Transmission Corporation that provides for 5 megawatts of firm point-to-point transmission service for the period 1/1/08 through 12/31/08.

Filed Date: 11/30/2007.

Accession Number: 20071203-0080.

Comment Date: 5 p.m. Eastern Time on Friday, December 21, 2007.

Docket Numbers: ER08-274-000.

Applicants: Citadel Energy Strategies, LLC.

Description: Citadel Energy Strategies LLC submits its Petition for Acceptance of Initial Rate Schedule, Waiver and Blanket Authorization designated as Rate Schedule FERC 1.

Filed Date: 11/30/2007.

Accession Number: 20071203-0081.

Comment Date: 5 p.m. Eastern Time on Friday, December 21, 2007.

Docket Numbers: ER08-275-000.

Applicants: Santa Maria Cogen Inc.

Description: Santa Maria Cogen Inc submits its proposed market-based rate tariff, entitled FERC Electric Tariff 1 for its cogeneration facility located in Santa Maria, CA.

Filed Date: 11/30/2007.

Accession Number: 20071203-0082.

Comment Date: 5 p.m. Eastern Time on Friday, December 21, 2007.

Docket Numbers: ER08-276-000.

Applicants: Carolina Power & Light Company.

Description: Carolina Power & Light Company dba Progress Energy Carolinas Inc submits a cost of based power sales agreement with the Town of Stantonsburg, NC.

Filed Date: 11/30/2007.

Accession Number: 20071203-0083.

Comment Date: 5 p.m. Eastern Time on Friday, December 21, 2007.

Docket Numbers: ER08-277-000.

Applicants: Carolina Power & Light Company.

Description: Carolina Power & Light Company dba Progress Energy Carolinas Inc submits a cost-based power sales agreement with the Town of Sharpsburg, NC.

Filed Date: 11/30/2007.

Accession Number: 20071203-0084.

Comment Date: 5 p.m. Eastern Time on Friday, December 21, 2007.

Docket Numbers: ER08-278-000.

Applicants: Carolina Power & Light Company.

Description: Carolina Power & Light Company dba Progress Energy Carolinas Inc submits a cost of based power sales agreement with the Town of Lucama, NC.

Filed Date: 11/30/2007.

Accession Number: 20071203-0085.

Comment Date: 5 p.m. Eastern Time on Friday, December 21, 2007.

Docket Numbers: ER08-279-000.

Applicants: Carolina Power & Light Company.

Description: Carolina Power & Light Company dba Progress Energy Carolinas Inc submits a cost-based power sales agreement with the Town of Black Creek, North Carolina.

Filed Date: 11/30/2007.

Accession Number: 20071203-0078.

Comment Date: 5 p.m. Eastern Time on Friday, December 21, 2007.

Docket Numbers: ER08-280-000.

Applicants: PJM Interconnection, L.L.C.

Description: PJM Interconnection LLC submits Fourth Revised Sheet 8A et al to its PJM Open Access Transmission Tariff.

Filed Date: 11/30/2007.

Accession Number: 20071203-0086.

Comment Date: 5 p.m. Eastern Time on Friday, December 21, 2007.

Docket Numbers: ER08-48-001.

Applicants: Florida Power Corporation.

Description: Florida Power Corp dba Progress Energy Florida, Inc submits an amendment to their 10/11/07 filing of a Standard Large Generator Interconnection Agreement with Vandohl Power Co.

Filed Date: 11/30/2007.

Accession Number: 20071203-0199.

Comment Date: 5 p.m. Eastern Time on Friday, December 21, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E7-23931 Filed 12-10-07; 8: 45 am]

BILLING CODE 6717-01-P